LEGAL SERVICES CORPORATION

Sunshine Act Meeting

Time and Date: The Finance Committee of the Legal Services Corporation Board of Directors will meet on June 27, 2003. The meeting will begin at 2:30 p.m. and continue until the Committee concludes its agenda.

Location: The Latham Hotel, 3000 M Street, NW., Washington, DC.

Status of Meeting: Open.

Matters to be Considered:

1. Approval of agenda.

2. Staff report on LSC's Consolidated Operating Budget, Expenses and Other Funds Available through April 30, 2003.

3. Staff report on LSC's budget projections for April 1—September 30, 2003.

4. Consider and act on LSC's 2005 budget request.

5. Consider and act on future activities for the Committee.

6. Consider and act on other business.

7. Public comment.

8. Consider and act on adjournment of meeting.

FOR FURTHER INFORMATION CONTACT: Victor M. Fortuno, Vice President for Legal Affairs, General Counsel & Corporate Secretary, at (202) 295-1500.

Special Needs: Upon request, meeting notices will be made available in alternate formats to accommodate visual and hearing impairments. Individuals who have a disability and need an accommodation to attend the meeting may notify Elizabeth S. Cushing, at (202) 295-1500.

Dated: June 20, 2003.
Victor M. Fortuno,
Vice President for Legal Affairs, General Counsel & Corporate Secretary.

[FR Doc. 03-16065 Filed 6-20-03; 2:16 pm]

BILLING CODE 7050-01-P